ENVIRONMENTAL PROTECTION AGENCY

[FRL-12144-02-R4]

Florida—Indian River-Vero Beach to Fort Pierce Aquatic Preserve Vessel Sewage No-Discharge Zone; Final Affirmative Determination

AGENCY: Environmental Protection Agency (EPA).

ACTION: Notice of determination.

SUMMARY: The U.S. Environmental Protection Agency (EPA), Region 4 has determined that adequate facilities for the safe and sanitary removal and treatment of sewage from all vessels are reasonably available for the Indian River-Vero Beach to Fort Pierce Aquatic Preserve (“the Preserve”) in Florida to support the designation of a vessel sewage no-discharge zone for such waters. Pursuant to the Clean Water Act section 312, this notice constitutes EPA's final affirmative determination on the application submitted by Florida on July 3, 2024. Following this final affirmative determination, Florida may designate all waters within the Preserve as a vessel sewage no-discharge zone in accordance with State law.

FOR FURTHER INFORMATION CONTACT: Jennifer Dimaio, Ocean, Wetlands, and Streams Protection Branch, Water Division, U.S. Environmental Protection Agency, Region 4, 61 Forsyth Street SW, Atlanta, Georgia 30303-8960; telephone number: (404) 562-9268; email address: dimaio.jennifer@epa.gov.

SUPPLEMENTARY INFORMATION:

I. Background

On July 3, 2024, Florida submitted an application to the U.S. Environmental Protection Agency (EPA), Region 4, for a determination that adequate facilities for the safe and sanitary removal and treatment of sewage from all vessels are reasonably available for waters of the Preserve so that Florida may completely prohibit the discharge from all vessels of any sewage, whether treated or not, into such waters. This application for a no-discharge zone was made pursuant to Clean Water Act section 312(f)(3).

The planned no-discharge zone would include all waters of the Preserve, as delineated in Chapter 258.39, Florida Statutes (F.S.), as described in the Official Records of Indian River County in Book 368, pages 9-12, and in the Official Records of Saint Lucie County in Book 187, pages 1083-1086. This includes a segment of the Atlantic Intracoastal Waterway between approximately mile 953.5 (North 27 degrees 37.6153 minutes, West 80 degrees 22.1865 minutes) and mile 964.8 (North 27 degrees 28.3272 minutes, West 80 degrees 19.4741 minutes). The 9,500-acre Preserve extends 12 miles from the southern Vero Beach corporate limit to the north U.S. Highway A1A bridge in Fort Pierce and includes Big Starvation Cove, Wildcat Cove, and Fort Pierce Cut.

In 2021, the Florida Legislature passed Senate Bill 1086 creating Chapter 327.521, F.S., designating, upon approval from EPA, all waters within the boundaries of aquatic preserves identified in Chapter 258.39, F.S., as vessel sewage no-discharge zones. Florida's application and this final determination pertain only to the Indian River-Vero Beach to Fort Pierce Aquatic Preserve.

In its application, Florida certified that the protection and enhancement of the quality of the waters within the Preserve require greater environmental protection than is afforded by the applicable Federal standard. Florida also provided information on the vessel population and usage of the Preserve and identified the pumpout facilities available to service these vessels. Florida's application is available electronically in Docket ID No. EPA-R04-OW-2024-0379 through https://www.regulations.gov.

II. Response to Public Comments

On August 6, 2024, EPA published a tentative affirmative determination in the Federal Register that adequate facilities for the safe and sanitary removal and treatment of sewage from all vessels are reasonably available for the waters subject to Florida's proposed no-discharge zone and solicited the public's input during a 30-day comment period (89 FR 63941).

EPA received five comments on the tentative affirmative determination, four of which were in support of a no-discharge zone for the Preserve. First, a Florida boater who regularly pumps out a 43-foot cabin cruiser and traverses the 12-mile Preserve agreed that adequate pumpout facilities are reasonably available in the area. Additionally, one commenter expressed general support for the designation, noting that the Indian River Lagoon contains the county's healthiest seagrass beds. In its comment, the City of Vero Beach indicated that the city supports a no-discharge zone designation for the Preserve but requested guidance on how the city's corporate limits could be included in the designation. In a similar vein, another commenter recommended that EPA designate all seven preserves in the Indian River Lagoon area as no-discharge zones. EPA acknowledges these commenters' support for a no-discharge zone designation, but notes that the scope of EPA's determination is limited to those waters included in Florida's application dated July 3, 2024. To designate any other waters or preserves as vessel sewage no-discharge zones, Florida must first apply to EPA for a determination on those waters and provide the requisite information, as detailed in 40 CFR 140.4. Finally, one commenter discussed a proposed housing development adjacent to the Indian River Lagoon; however, this is outside the scope of EPA's action here to determine whether adequate facilities for the safe and sanitary removal and treatment of sewage from all vessels are reasonably available for the waters subject to Florida's proposed no-discharge zone.

III. Adequacy and Availability of Pumpout Facilities

In the tentative determination, EPA outlined the Agency's role in evaluating Florida's application for a vessel sewage no-discharge zone under Clean Water Act section 312(f)(3), which requires that the Agency determine whether adequate facilities for the safe and sanitary removal and treatment of sewage from all vessels are reasonably available for the waters proposed for a no-discharge zone designation.

Based on the information provided by Florida and EPA's subsequent review, there are an estimated 1,534 recreational vessels operating in the Preserve that will likely require pumpout services, and those vessels may be serviced by eight stationary sewage pumpout facilities (Table 1). During peak usage, EPA estimates that 614 recreational vessels can be served by these available facilities. This estimate is based on the number of vessels that can be serviced per hour by each available facility and the hours of operation of each facility. As such, EPA determined that adequate pumpout facilities are reasonably available to meet the expected demand during periods of peak recreational boating. Additionally, EPA finds that the cost for recreational vessels to access these facilities is minimal, with most of the facilities charging only five dollars per use.

Florida estimated that there are 146 commercial vessels operating within the Preserve that will likely require pumpout services, and those vessels may also be serviced by the eight stationary pumpout facilities (Table 1). Table 1 also includes two mobile service providers that were identified by Florida as having coverage areas that include the Preserve. To determine whether pumpout facilities are reasonably available to commercial vessels, EPA compared the volume of sewage produced by commercial vessels with the volume that can be received by available pumpout facilities and considered the costs associated with accessing and using those facilities. As described in the tentative affirmative determination, EPA's screening analysis showed that demand for pumpout services is never expected to exceed capacity in the Preserve, indicating that sufficient pumpout capacity is available for commercial vessels. In fact, capacity greatly exceeds demand, and EPA expects that this capacity surplus would be sufficient even if both recreational and commercial vessels access the facilities during peak usage. EPA also considered the various costs incurred by commercial vessels to determine how the proposed no-discharge zone would impact baseline operating costs. Working vessels (e.g., tugboats) may incur an estimated 0.8 percent increase in baseline operating costs, while commercial fishing vessels may incur an estimated 6.3 percent increase. This increase is largely attributable to lost revenue due to the time it takes to pump out sewage from a vessel; however, these costs would only be incurred when the vessel operator is forgoing paid work in favor of pumping out sewage. The actual increase, therefore, is likely much lower on the basis that vessel operators should be able to time their pumpout activities to minimize cost impacts.

Finally, EPA verified that the treatment of wastes from the pumpout facilities is in conformance with federal law. As discussed in EPA's tentative affirmative determination, the wastewater treatment plants that receive sewage from the stationary pumpout facilities are the Fort Pierce Utilities Authority Wastewater Treatment Plant and the City of Vero Beach Wastewater Treatment Plant. Florida indicated that both facilities are in compliance with effluent limits and are not expected to be meaningfully impacted by an increase in volume of sewage to be treated as a result of a no-discharge zone designation.

IV. Determination

Based on EPA's review of both the information provided in Florida's application and the comments received on EPA's tentative affirmative determination, EPA Region 4 hereby makes a final determination that adequate facilities for the safe and sanitary removal and treatment of sewage from all vessels are available for the waters of the Indian River-Vero Beach to Fort Pierce Aquatic Preserve.

Table 1—List of Pumpout Facilities
Name | Location | Contact information | Operating schedule | Water depth (feet) | Fee ($) | Type of facility
Causeway Cove Marina | 601 Seaway Dr., Fort Pierce, FL 34949 | (772) 242-3552 | 9 a.m.-5 p.m | 5.6 | 5.00 | Stationary.
Fort Pierce City Marina | 1 Ave. A, Fort Pierce, FL 34950 | (772) 464-1245 | 6:30 a.m.-5:30 p.m | 7.6 | 5.00 | Stationary.
Harbour Isle | 801 Seaway Dr., Fort Pierce, FL 34949 | (772) 461-9049 | 9:30 a.m.-1:30 p.m. (Mon.-Fri.) 10 a.m.-1 p.m. (Sat.-Sun.) | 9.0 | 5.00 | Stationary.
Pelican Yacht Club | 1120 Seaway Dr., Fort Pierce, FL 34949 | (772) 464-2700 | 11:30 a.m.-9 p.m. (Wed.-Sat.) 8 a.m.-6 p.m. (Sun.) | 6.0 | 5.00 | Stationary.
Quail Valley River Club | 2345 Hwy. A1A, Vero Beach, FL 32963 | (772) 492-2020 | 9:30 a.m.-4 p.m | 8.0 | 5.00 | Stationary.
Riverside Boatyard & Marina | 2350 Old Dixie Hwy., Fort Pierce, FL 34946 | (772) 464-5720 | 8 a.m.-7 p.m. (Mon.-Sat.) | 6.0 | Private | Stationary.
Safe Harbor Harbortown | 1936 Harbortown Dr., Fort Pierce, FL 34946 | (772) 466-7300 | 7 a.m.-5 p.m | 6.5 | 15.00 | Stationary.
Vero Beach Municipal Marina | 3611 Rio Vista Blvd., Vero Beach, FL 32963 | (772) 978-4960 | 8 a.m.-5 p.m | 8.0 | 5.00 | Stationary.
Coastal Tank | Service area from Miami to Fort Pierce | (954) 562-8656 | 7 a.m.-5 p.m.; advanced scheduling for off hours and emergency services available | N/A | Variable (See Section II.B. of EPA's tentative determination for details) | Mobile (3 trucks).
Marine and RV Pumping ToGo | Service area from Key West to Florida/Georgia border | (954) 740-7506 | 7 a.m.-7 p.m. (Mon.-Sat.); advanced scheduling for off days/hours and emergency services available | N/A | Variable (See Section II.B. of EPA's tentative determination for details) | Mobile (9 trucks).

Dated: September 25, 2024.
Jeaneanne M. Gettle,
Acting Regional Administrator, Region 4.

[FR Doc. 2024-22499 Filed 9-30-24; 8:45 am]

BILLING CODE 6560-50-P